NUCLEAR REGULATORY COMMISSION

[NRC-2017-0216]

Vital Area Access Controls, Protection of Physical Security Equipment, and Key and Lock Controls

AGENCY: Nuclear Regulatory Commission.

ACTION: Regulatory guide; withdrawal.

SUMMARY: The U.S. Nuclear Regulatory Commission (NRC) is withdrawing Regulatory Guide (RG) 5.65, “Vital Area Access Controls, Protection of Physical Security Equipment, and Key and Lock Controls,” dated September 1986. This document is being withdrawn because it is outdated and has been superseded by other NRC guidance, and therefore, no longer provides methods that the NRC staff finds acceptable in future requests or applications for NRC's licensing actions.

DATES: The applicable date of the withdrawal of RG 5.65 is November 13, 2017.

ADDRESSES: Please refer to Docket ID NRC-2017-0216 when contacting the NRC about the availability of information regarding this document. You may obtain publicly-available information related to this document using any of the following methods:

• Federal Rulemaking Web site: Go to http://www.regulations.gov and search for Docket ID NRC-2017-0216. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced. The basis for withdrawal of RG 5.65 is available in ADAMS under Accession No. ML17262A504.

• NRC's PDR: You may examine and purchase copies of public documents at the NRC's PDR, Room O1-F21, One White Flint North, 11555 Rockville Pike, Rockville, Maryland 20852.

FOR FURTHER INFORMATION CONTACT: Angela Wu, Office of Nuclear Reactor Regulation, telephone: 301-287-3645, email: Angela.Wu@nrc.gov, or Mekonen Bayssie, Office of Nuclear Regulatory Research, telephone: 301-415-1699, email: Mekonen.Bayssie@nrc.gov. Both are staff members of the U.S. Nuclear Regulatory Commission, Washington, DC 20555-0001.

SUPPLEMENTARY INFORMATION: The NRC is withdrawing RG 5.65, “Vital Area Access Controls, Protection of Physical Security Equipment, and Key and Lock Controls,” because of the following regulatory and technical issues:

• On March 27, 2009 (74 FR 13926), the Commission amended part 73 of title 10 of the Code of Federal Regulations (10 CFR), for nuclear power plants to incorporate security requirements that were issued through Commission security orders as a result of the September 11, 2001 terrorist attacks. In addition, the rulemaking added several new requirements to incorporate insights gained from implementation of the security orders, review of site security plans, implementation of the NRC's enhanced baseline inspection program, and the NRC's evaluation of force-on-force exercises. As a result, the guidance in RG 5.65 became outdated.

In addition, more recent regulatory guidance has been issued that supersedes the guidance in RG 5.65.

• The RG 5.66, “Access Authorization Program for Nuclear Power Plants,” Rev. 2 (October 2011) supersedes RG 5.65. The RG 5.65 does not address the current requirements of 10 CFR 73.56 with regard to access authorization at nuclear power plants. Instead, RG 5.66 provides an acceptable approach by which licensees can establish and implement an access authorization program for granting unescorted access to protected and vital areas of a nuclear power plant.

• The RG 5.76, “Physical Protection at Nuclear Power Reactors” (July 2009), which was issued to facilitate implementation of the new 10 CFR part 73 rule in 2009, supersedes RG 5.65. Specifically, RG 5.65 contains duplicative or outdated discussions regarding protection of security equipment, vital and protected area transients, delays, barriers, underground pathways, power, escort, ingress and egress, record keeping, and review/audit requirements.

• The RG 5.12, “General Use of Locks in the Protection and Control of: Facilities, Radioactive Materials, Classified Information, Classified Matter, and Safeguards Information,” Rev. 1 (October 2016), supersedes RG 5.65. Regarding keys and locks, the guidance offered in RG 5.65 is brief and limited to two paragraphs, discussing the requirement and frequency to change and rotate keys, locks, and combinations. The same information is discussed in much greater detail in RG 5.12.

• The RG 5.74, “Managing the Safety/Security Interface,” Rev. 1 (April 2015), supersedes RG 5.65. With regard to managing the safety and security interface, RG 5.65 provides only brief guidance (one paragraph) on the cross training of roles, responsibilities, and general practices of the safety and security organizations as a mechanism to reduce interface problems. The RG 5.74 provides more detailed guidance for training to aid the interface between safety and security organizations.

II. Further Information

The withdrawal of RG 5.65 does not alter any prior or existing NRC licensing approval or the acceptability of licensee commitments made regarding the withdrawn guidance. Although RG 5.65 is withdrawn, current licensees referencing this RG may continue to do so, and withdrawal does not affect any existing licenses or agreements. However, by withdrawing RG 5.65, the NRC no longer approves use of the guidance in future requests or applications for NRC's licensing actions.

Dated at Rockville, Maryland, this 6th day of November, 2017.
For the Nuclear Regulatory Commission.
Thomas H. Boyce,
Chief, Regulatory Guidance and Generic Issues Branch, Division of Engineering, Office of Nuclear Regulatory Research.

[FR Doc. 2017-24484 Filed 11-9-17; 8:45 am]

BILLING CODE 7590-01-P